DEPARTMENT OF TRANSPORTATION

Federal Aviation Administration

Commercial Space Transportation Safety Approval Performance Criteria

AGENCY: Federal Aviation Administration (FAA), DOT.

ACTION: Notification of criteria used to evaluate the National Aerospace Training and Research (NASTAR) Center safety approval application.

SUMMARY: NASTAR was issued a safety approval, subject to the provisions of Title 51 U.S.C. subtitle V, chapter 509, and the orders, rules and regulations issued under it. Pursuant to 14 CFR 414.35, this Notice publishes the criteria that were used to evaluate the safety approval application.

Background: NASTAR applied for, and received, a safety approval for the ability of its Space Training System: Model 400 (STS-400) to replicate G levels. The performance criteria for this safety approval are applicant developed per 14 CFR 414.19 (a)(4). NASTAR's STS-400 suborbital space flight simulator (a multi-axis centrifuge) is capable of replicating the G forces associated with suborbital space flight within the following parameters:

—Manned flight profiles up to 12 Gz and 8 Gx, with an onset rate up to +/- 8 G/Sec and an accuracy in Gz and Gx axis of +/- 0.1 G.

Criteria Used to Evaluate Safety Approval Application: The STS-400 was evaluated by the FAA as a component of a flight crew training process. The evaluation included the FAA's assessment of the STS-400's ability to accurately replicate the specified G levels.

NASTAR submitted the following data to show that the STS-400 complies with the criteria:

—Acceptance Test Plan.

—Launch and reentry profiles demonstrations, and

—G level accelerometer and tachometer test results.

FOR FURTHER INFORMATION CONTACT: For questions about the performance criteria, you may contact Sherman Council, Licensing and Evaluation Division (AST-200), FAA Office of Commercial Space Transportation (AST), 800 Independence Avenue SW., Room 331, Washington, DC 20591, telephone (202) 267-8308; e-mail sherman.council@faa.gov.

Issued in Washington, DC, April 4, 2011.
George C. Nield,
Associate Administrator for Commercial Space Transportation.

[FR Doc. 2011-8534 Filed 4-8-11; 8:45 am]

BILLING CODE 4910-13-P